DEPARTMENT OF ENERGY

10 CFR Part 430

[Docket Number EERE-2015-BT-STD-0017]

RIN 1904-AD55

Energy Conservation Program for Consumer Products: Definitions and Standards for Grid-Enabled Water Heaters

AGENCY: Office of Energy Efficiency and Renewable Energy, Department of Energy.

ACTION: Final rule; technical correction.

SUMMARY: On August 11, 2015, the U.S. Department of Energy published a final rule in the Federal Register to place in the Code of Federal Regulations the energy conservation standards and related definitions that Congress prescribed for grid-enabled water heaters in the Energy Efficiency Improvement Act of 2015, which amended the Energy Policy and Conservation Act of 1975. Due to a drafting error, a numeral was omitted from the energy factor equation for grid-enabled water heaters. This document corrects that error.

DATES: Effective: September 21, 2015.

FOR FURTHER INFORMATION CONTACT:

Ms. Ashley Armstrong, U.S. Department of Energy, Office of Energy Efficiency and Renewable Energy, Building Technologies Program, EE-2J, 1000 Independence Avenue SW., Washington, DC, 20585-0121. Telephone: (202) 586-6590. Email: Ashley.Armstrong@ee.doe.gov.

Ms. Johanna Hariharan, U.S. Department of Energy, Office of the General Counsel, GC-33, 1000 Independence Avenue SW., Washington, DC, 20585-0121. Telephone: (202) 287-6307. Email: Johanna.Hariharan@hq.doe.gov.

SUPPLEMENTARY INFORMATION:

I. Background

The U.S. Department of Energy (DOE) published a final rule in the Federal Register on August 11, 2015 (“the August 2015 final rule”) to place in the Code of Federal Regulations (CFR) the energy conservation standards and related definitions that Congress prescribed for grid-enabled water heaters in the Energy Efficiency Improvement Act of 2015 (EEIA 2015), which amended the Energy Policy and Conservation Act of 1975 (EPCA). 80 FR 48004. Since the publication of that final rule, it has come to DOE's attention that, due to a drafting oversight, the August 2015 final rule incorrectly omitted a numeral in the equation to determine the energy factor for grid-enabled water heaters. This final rule corrects this error, adding the missing numeral.

II. Need for Correction

As published, the August 2015 final rule contains a typographical error in the first column of 80 FR 48010, in § 430.32(d)(2), “Grid-enabled water heaters.” The equation in that paragraph, “1.06−(0.00168 × Rated Storage Volume in gallons)” should read “1.061−(0.00168 × Rated Storage Volume in gallons).” This revision accurately reflects the values found in the energy factor equation in the preamble (80 FR 48007), as well as the text in EEIA 2015 and, consequently, EPCA. Thus, the final rule has been corrected to eliminate this error. DOE notes that this equation to measure the energy factor for grid-enabled water heaters has been the law under EPCA through EEIA 2015 since April 30, 2015, and that the August 2015 final rule and this correction simply place that language into DOE's codified regulations.

III. Procedural Requirements

DOE has concluded that the determinations made pursuant to the various procedural requirements applicable to the August 2015 final rule remain unchanged for this final rule technical correction. These determinations are set forth in the August 2015 final rule. 80 FR 48004, 48009-10 (Aug. 11, 2015).

List of Subjects in 10 CFR part 430

Administrative practice and procedure, Confidential business information, Energy conservation, Household appliances, Imports, Intergovernmental relations, Small businesses.

Issued in Washington, DC, on August 14, 2015
Kathleen B. Hogan,
Deputy Assistant Secretary for Energy Efficiency, Energy Efficiency and Renewable Energy.

For the reasons set forth in the preamble, DOE amends part 430 of Chapter II, Subchapter D, of Title 10 of the Code of Federal Regulations as set forth below:

PART 430—ENERGY CONSERVATION PROGRAM FOR CONSUMER PRODUCTS

1. The authority citation for part 430 continues to read as follows:

Authority: 42 U.S.C. 6291-6309; 28 U.S.C. 2461 note.

2. Section 430.32 is amended by revising paragraph (d)(2) to read as follows:

§ 430.32 Energy and water conservation standards and their compliance dates.

* * * * *

(d) * * *

(2) Grid-enabled water heaters. The energy factor of grid-enabled water heaters, as of April 30, 2015, shall not be less than 1.061−(0.00168 × Rated Storage Volume in gallons).

* * * * *

[FR Doc. 2015-20712 Filed 8-20-15; 8:45 am]

BILLING CODE 6450-01-P